DEPARTMENT OF ENERGY

Federal Energy Regulatory Commission

Combined Notice of Filings

Take notice that the Commission has received the following Natural Gas Pipeline Rate and Refund Report filings:

Filings Instituting Proceedings

Docket Numbers: RP10-930-001.

Applicants: Kinder Morgan Louisiana Pipeline LLC.

Description: Compliance filing Electronic Original Volume No. 2 to be effective 11/12/2018.

Filed Date: 10/12/18.

Accession Number: 20181012-5156.

Comments Due: 5 p.m. ET 10/24/18.

Docket Numbers: RP19-80-000.

Applicants: ETC Tiger Pipeline, LLC.

Description: eTariff filing per 1430: FERC Form No. 501-G Report.

Filed Date: 10/12/18.

Accession Number: 20181012-5000.

Comments Due: 5 p.m. ET 10/24/18.

Docket Numbers: RP19-81-000.

Applicants: Iroquois Gas Transmission System, L.P.

Description: eTariff filing per 1430: 101218 Petition for Waiver of Form 501-G Filing.

Filed Date: 10/12/18.

Accession Number: 20181012-5020.

Comments Due: 5 p.m. ET 10/24/18.

Docket Numbers: RP19-82-000.

Applicants: High Point Gas Transmission, LLC.

Description: eTariff filing per 1430: Form No 501-G Filing.

Filed Date: 10/12/18.

Accession Number: 20181012-5120.

Comments Due: 5 p.m. ET 10/24/18.

Docket Numbers: RP19-83-000.

Applicants: Natural Gas Pipeline Company of America.

Description: § 4(d) Rate Filing: Negotiated Rate Agreement-Castleton Commodities—TempCapRelease to be effective 10/13/2018.

Filed Date: 10/15/18.

Accession Number: 20181015-5060.

Comments Due: 5 p.m. ET 10/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2018.
Nathaniel J. Davis, Sr.,
Deputy Secretary.

[FR Doc. 2018-22949 Filed 10-19-18; 8:45 am]

BILLING CODE 6717-01-P